FEDERAL MARITIME COMMISSION

Notice of Agreements Filed

The Commission hereby gives notice of the filing of the following agreement under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 201344-001.

Agreement Name: The Global Shipping Business Network Agreement.

Parties: CMA CGM S.A.; COSCO SHIPPING Lines Co., Ltd.; Hapag-Lloyd AG; and Orient Overseas Container Line Limited.

Filing Party: Eric Jeffrey; Nixon Peabody.

Synopsis: The Amendment deletes CMA CGM S.A. as a party to the Agreement.

Proposed Effective Date: 12/10/2020.

Location: https://www2.fmc.gov/FMC.Agreements.Web/Public/AgreementHistory/29502.

Dated: December 11, 2020.
Rachel E. Dickon,
Secretary.

[FR Doc. 2020-27669 Filed 12-15-20; 8:45 am]

BILLING CODE 6730-02-P